DEPARTMENT OF LABOR

Office of the Assistant Secretary for Veterans' Employment and Training; Secretary of Labor's Advisory Committee for Veterans' Employment and Training; Notice of Open Meeting

The Secretary's Advisory Committee for Veterans' Employment and Training was established under section 4110 of title 38, United States Code, to bring to the attention of the Secretary, problems and issues relating to veterans' employment and training.

Notice is hereby given that the Secretary of Labor's Advisory Committee for Veterans' Employment and Training will meet on Monday, December 8, 2003, beginning at 9 a.m. at the Embassy Suites Hotel, 1300 Concourse Drive, Baltimore, Maryland (near the Baltimore/Washington International Airport).

Written comments are welcome and may be submitted by addressing them to: Mr. John Muckelbauer, Designated Federal Official, Office of the Assistant Secretary for Veterans' Employment and Training, U.S. Department of Labor, 200 Constitution Avenue, NW., Room S-1325, Washington, DC, 20210.

The agenda will focus on the best ways to provide job-search assistance and related services to separating service members during their period of transition into civilian life.

The meeting will be open to the public.

Persons with disabilities needing special accommodations should contact Mr. John Muckelbauer at telephone number 202/693-4700 no later than Wednesday, December 3, 2003.

Signed at Washington, DC, this 18th day of November, 2003.
Frederico Juarbe, Jr.,
Assistant Secretary of Labor for Veterans' Employment and Training.

[FR Doc. 03-29256 Filed 11-21-03; 8:45 am]

BILLING CODE 4510-79-P